DEPARTMENT OF EDUCATION

Applications for New Awards; Assistance for Arts Education Program; Corrections

AGENCY: Office of Elementary and Secondary Education, Department of Education.

ACTION: Notice; corrections.

SUMMARY: The Department of Education published a document in the Federal Register of January 15, 2021, inviting applications (NIA) for the fiscal year (FY) 2021 Assistance for Arts Education (AAE) program competition, Assistance Listing Number 84.351A. The Department is amending the NIA by removing one of the competitive preference priorities and extending the deadline date for transmittal of applications to April 15, 2021, and the deadline for intergovernmental review to June 14, 2021.

FOR FURTHER INFORMATION CONTACT: Bonnie Carter, U.S. Department of Education, 400 Maryland Avenue SW, Room 3E308, Washington, DC 20202. Telephone: (202) 401-3576. Email: Bonnie.Carter@ed.gov.

If you use a telecommunications device for the deaf (TDD) or a text telephone (TTY), call the Federal Relay Service, toll free, at 1-800-877-8339.

SUPPLEMENTARY INFORMATION: In the Federal Register of January 15, 2021, we published the NIA for the FY 2021 AAE competition. Following publication of the NIA, the new Administration came into office. Upon review of the NIA, we decided to eliminate Competitive Preference Priority 1—Applications from New Potential Grantees.

Accordingly, we are amending the NIA to notify prospective applicants that we are no longer using Competitive Preference Priority 1—Applications from New Potential Grantees, and are making related conforming changes. In addition, we are extending the deadline for transmittal of applications in order to allow applicants more time to prepare and submit their applications, and are also extending the deadline for intergovernmental review. The application package will be adjusted to reflect the changes.

Applicants that have already submitted applications under the FY 2021 AAE competition may resubmit applications but are not required to do so. If a new application is not submitted, the Department will use the application that was submitted by the original deadline, without regard to any response to the competitive preference priority that we are removing. If a new application is submitted, the Department will consider the application that is most recently submitted before the deadline of April 15, 2021.

All other requirements and conditions stated in the NIA remain the same.

Program Authority: 20 U.S.C. 7292.

Corrections

In the Federal Register of January 15, 2021, in FR Doc. No. 2021-00705, we make the following corrections:

1. On page 4012, in the second column, correct the following in the DATES caption:

(1) Following the heading “Deadline for Transmittal of Applications,” remove “March 16, 2021” and add, in its place, “April 15, 2021.”

(2) Following the heading “Deadline for Intergovernmental Review,” remove “May 17, 2021” and add, in its place, “June 14, 2021.”

2. On page 4013, in the middle of the first column, replace the text of the first paragraph after the heading “Priorities:” with the following:

This notice contains one competitive preference priority and one invitational priority. The competitive preference priority is from section 4642 of the ESEA (20 U.S.C. 7292).

3. On page 4013, in the middle of the first column, replace the heading “Competitive Preference Priorities:” with the heading “Competitive Preference Priority:” and replace the text of the paragraphs under the heading “Competitive Preference Priority” with the following:

For FY 2021 and any subsequent year in which we make awards from the list of unfunded applications from this competition, this priority is a competitive preference priority. Under 34 CFR 75.105(c)(2)(i), we award an additional five points to an application that meets the competitive preference priority.

This priority is:

Applicants That Are National Nonprofit Organizations. (0 or 5 points)

Under this priority, the Secretary gives priority to eligible entities that are eligible national nonprofit organizations. The term “eligible national nonprofit organization” means an organization of national scope that—

(a) Is supported by staff, which may include volunteers, or affiliates at the State and local levels; and

(b) Demonstrates effectiveness or high-quality plans for addressing arts education activities for disadvantaged students or students who are children with disabilities.

4. On page 4014, in the middle of the second column, in the paragraph following the heading “Applicable Regulations,” remove “(e) Administrative Priorities.”

Mark Washington,
Deputy Assistant Secretary, Office of Elementary and Secondary Education.

[FR Doc. 2021-04494 Filed 3-3-21; 8:45 am]

BILLING CODE 4000-01-P